DEPARTMENT OF ENERGY

Federal Energy Regulatory Commission

Notice of Commission Staff Attendance

The Federal Energy Regulatory Commission hereby gives notice that members of the Commission's staff may attend the following meeting related to Seams Issues between MISO and PJM:

2012 PJM/MISO Joint and Common Market Initiative—Seams Issues Meeting

August 24, 2012, 10 a.m.-3 p.m., Local Time

The above-referenced meeting will be held at:

The Philadelphia Airport Marriot, Philadelphia, PA.

The above-referenced meeting is open to stakeholders.

Further information may be found at: http://www.pjm.com/committees-and-groups/stakeholder-meetings/stakeholder-groups/pjm-miso-joint-common.aspx.

The discussions at the meeting described above may address matters at issue in the following proceeding:

Docket No. RM10-23-000/001, Order No. 1000.

For more information, contact Jesse Hensley, Office of Energy Market Regulation, Federal Energy Regulatory Commission at (202) 502-6228 or Jesse.Hensley@ferc.gov.

Dated: August 21, 2012.
Kimberly D. Bose,
Secretary.

[FR Doc. 2012-21079 Filed 8-27-12; 8:45 am]

BILLING CODE 6717-01-P